DEPARTMENT OF HOMELAND SECURITY

Federal Emergency Management Agency

44 CFR Part 67

[Docket ID FEMA-2011-0002; Internal Agency Docket No. FEMA-B-1192]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 8, 2011.

ADDRESSES: The corresponding preliminary Flood Insurance Rate Map (FIRM) for the proposed BFEs for each community is available for inspection at the community's map repository. The respective addresses are listed in the table below.

You may submit comments, identified by Docket No. FEMA-B-1192, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | *Elevation in feet (NGVD) +Elevation in feet (NAVD) #Depth in feet above ground ‸Elevation in meters (MSL): Effective | *Elevation in feet (NGVD) +Elevation in feet (NAVD) #Depth in feet above ground ‸Elevation in meters (MSL): Modified | Communities affected
Sacramento County, California, and Incorporated Areas
Dry Creek | Approximately 1.6 miles upstream of the Natomas East Main Drainage Canal confluence | +41 | +42 | City of Sacramento, Unincorporated Areas of Sacramento County.
| Approximately 0.4 mile upstream of Elverta Road | +75 | +77
Dry Creek (North Branch) | At the Dry Creek confluence | +41 | +43 | Unincorporated Areas of Sacramento County.
| At the divergence from Dry Creek | +71 | +73
Grand Island (static flooding)—floodplain area between Sacramento River and Steamboat Slough | At the area between Highway 160 and Grand Island Road | None | +10 | Unincorporated Areas of Sacramento County.
Linda Creek | Approximately 0.7 mile downstream of Indian Creek Drive | +172 | +173 | Unincorporated Areas of Sacramento County.
| Approximately 1.0 mile upstream of Cherry Avenue (at the county boundary) | +268 | +271
Linda Creek (South Branch) | At the Linda Creek confluence | +196 | +198 | Unincorporated Areas of Sacramento County.
| Approximately 700 feet upstream of Walnut Avenue | None | +235
Pierson District (static flooding)—floodplain area east of Sacramento River | At the area north and east of River Road, south of Randall Island Road, and west of the levee extending from River Road to the intersection of Randall Island Road and State Highway 24 | None | +16 | Unincorporated Areas of Sacramento County.
RD 744 (static flooding)—floodplain area east of Sacramento River | At the area south and east of River Road | None | +20 | Unincorporated Areas of Sacramento County.
RD 746 (static flooding)—floodplain area east of Sacramento River | At the area north of Blair Street and east of River Road | None | +18 | Unincorporated Areas of Sacramento County.
RD 813 (static flooding)—floodplain area east of Sacramento River | At the area southeast of River Road, northeast of Herzog Road, and south of Blair Street | None | +17 | Unincorporated Areas of Sacramento County.
Sheet Flow Areas (AO Zones) | At the area between Bradshaw Road and Gerber Road and approximately 0.4 mile north of Carmen Cita Avenue | #1 | #2 | Unincorporated Areas of Sacramento County.
Sheet Flow Areas (AO Zones) | At the area approximately 0.8 mile east of the intersection of Bradshaw Road and Elder Creek Road and approximately 0.9 mile south of Jackson Road | #2 | #1 | Unincorporated Areas of Sacramento County.
Sierra Creek | At the Dry Creek confluence | +69 | +70 | Unincorporated Areas of Sacramento County.
| Approximately 260 feet upstream of 28th Street | +69 | +70
Sutter Island (static flooding)—floodplain area between Sacramento River, Steamboat Slough, and Sutter Slough | At the area between Highway 160 and Sutter Island Road | None | +16 | Unincorporated Areas of Sacramento County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES:
City of Sacramento
Maps are available for inspection at City Hall, 915 I Street, 5th Floor, Sacramento, CA 95814.
Unincorporated Areas of Sacramento County
Maps are available for inspection at the Sacramento County Water Resources Department, 827 7th Street, Room 301, Sacramento, CA 95814.
Caldwell Parish, Louisiana, and Incorporated Areas
Hurricane Creek | Approximately 500 feet downstream of the railroad | None | +125 | Town of Clarks, Village of Grayson.
| Approximately 0.66 mile upstream of State Highway 126 | None | +160
Ouachita River | Approximately 0.7 mile downstream of U.S. Route 165 | None | +73 | Unincorporated Areas of Caldwell Parish.
| Approximately 1,475 feet upstream of U.S. Route 165 | None | +73
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES:
Town of Clarks
Maps are available for inspection at the Town Hall, 1714 U.S. Route 845, Clarks, LA 71415.
Unincorporated Areas of Caldwell Parish
Maps are available for inspection at the Caldwell Parish Community Recreation Center/911 Complex, 6563 U.S. Route 165, Columbia, LA 71418.
Village of Grayson
Maps are available for inspection at the Village Hall, 5228 U.S. Route 126 East, Grayson, LA 71435.
Clay County, Missouri, and Incorporated Areas
Brushy Creek | Approximately 400 feet upstream of the most downstream Clinton County boundary | +985 | +987 | City of Lawson, Unincorporated Areas of Clay County.
| At the most upstream Clinton County boundary | None | +1045
Cates Branch | At the upstream side of Liberty Landing Road | +755 | +756 | City of Liberty, Unincorporated Areas of Clay County.
| At the downstream side of Harrison Street | +852 | +851
Clear Creek | At the Fishing River confluence | +777 | +775 | City of Kearney, City of Mosby, Unincorporated Areas of Clay County.
| Approximately 0.5 mile upstream of Nation Road | +819 | +823
Clear Creek Tributary 15 | Approximately 0.8 mile upstream of the Clear Creek confluence | +779 | +780 | Unincorporated Areas of Clay County.
| Approximately 1 mile upstream of the Clear Creek confluence | None | +788
Clear Creek Tributary 15.1 (overflow effects from Clear Creek) | Approximately 1,375 feet upstream of the Clear Creek confluence | +779 | +780 | City of Kearney, Unincorporated Areas of Clay County.
| Approximately 377 feet upstream of 6th Street | None | +786
Crockett Creek | At the Holmes Creek confluence | +772 | +766 | City of Mosby, Unincorporated Areas of Clay County.
| Approximately 1,400 feet upstream of Longridge Road | +785 | +790
Crockett Creek Tributary 3 | At the Crockett Creek confluence | +773 | +771 | Unincorporated Areas of Clay County.
| Approximately 0.7 mile upstream of the Crockett Creek confluence | None | +791
Crockett Creek Tributary 4 | Approximately 1,400 feet upstream of Longridge Road | +785 | +790 | Unincorporated Areas of Clay County.
| Approximately 390 feet upstream of Stockdale Road | None | +814
Dry Fork | At the downstream side of South Thompson Avenue | +776 | +773 | City of Excelsior Springs, Unincorporated Areas of Clay County.
| Approximately 0.6 mile downstream of Salem Road | +909 | +905
East Creek | Approximately 550 feet downstream of North Broadway Avenue | +866 | +867 | City of Gladstone.
| At the upstream side of Northeast 61st Street | None | +904
East Fork Fishing River | At the Fishing River confluence | +745 | +744 | City of Excelsior Springs, Unincorporated Areas of Clay County.
| Approximately 1,200 feet upstream of Isley Boulevard | +787 | +786
East Fork Fishing River Tributary 2 | Approximately 154 feet downstream of Saint Louis Avenue | +763 | +768 | City of Excelsior Springs.
| Approximately 1,600 feet upstream of Saint Louis Avenue | +764 | +768
East Fork Line Creek Tributary 1 | Approximately 1,120 feet upstream of Arrowhead Trafficway | None | +909 | City of Gladstone.
| Approximately 1,150 feet upstream of Arrowhead Trafficway | None | +909
First Creek | At the Second Creek confluence | +818 | +819 | City of Smithville, Unincorporated Areas of Clay County.
| At the Platte County boundary | +862 | +864
Fishing River | At the Ray County boundary | +730 | +731 | City of Kearney, City of Mosby, Unincorporated Areas of Clay County, Village of Prathersville.
| Approximately 0.5 mile downstream of North Home Avenue | None | +860
Holmes Creek | At the Fishing River confluence | +770 | +763 | City of Kearney, City of Mosby, Unincorporated Areas of Clay County.
| Approximately 1.1 miles upstream of North State Route 33 | None | +829
Little Platte River | Approximately 1.2 miles downstream of U.S. Route 169 | +811 | +810 | City of Smithville, Unincorporated Areas of Clay County.
| Approximately 0.5 mile downstream of State Route F | +814 | +815
Little Shoal Creek | At the Shoal Creek confluence | +745 | +744 | City of Glenaire, City of Liberty, City of Pleasant Valley, Village of Claycomo.
| At the upstream side of North Church Road | None | +800
Little Shoal Creek Tributary 5 | Approximately 0.4 mile upstream of the Little Shoal Creek confluence | +763 | +764 | City of Liberty.
| At the downstream side of South State Route 291 | None | +843
Little Shoal Creek Tributary 6 | At the downstream side of Smiley Street | +763 | +765 | City of Glenaire, City of Liberty.
| Approximately 600 feet downstream of Liberty Drive | +834 | +830
Little Shoal Creek Tributary 7 | At the Little Shoal Creek confluence | +763 | +764 | City of Glenaire, City of Liberty.
| Approximately 300 feet upstream of Kings Highway | None | +798
Mill Creek | At the upstream side of Randolph Road | +793 | +789 | City of Gladstone, Village of Claycomo.
| At the downstream side of Northeast 62nd Terrace | +947 | +949
Missouri River | At the Ray County boundary | +722 | +717 | City of Missouri City, City of North Kansas City, Unincorporated Areas of Clay County, Village of Randolph.
| Approximately 300 feet upstream of I-29 | +747 | +748
Muddy Fork | At the Clear Creek confluence | +786 | +788 | City of Holt, City of Kearney, Unincorporated Areas of Clay County.
| Approximately 0.6 mile upstream of County Road BB | +865 | +863
Old Maids Creek | Approximately 980 feet upstream of Arrowhead Trafficway | None | +896 | City of Gladstone.
| Approximately 990 feet upstream of Arrowhead Trafficway | None | +896
Owens Branch | At the Little Platte River confluence | +813 | +812 | City of Smithville, Unincorporated Areas of Clay County.
| Approximately 1,000 feet downstream of Northeast 188th Street | +909 | +911
Polecat Creek | At the Wilkerson Creek confluence | +881 | +884 | Unincorporated Areas of Clay County.
| Approximately 0.95 mile upstream of Clementine Road | None | +980
Randolph Creek | At the upstream side of the most downstream crossing of I-435 | +746 | +751 | Village of Randolph.
| At the downstream side of the most upstream crossing of I-435 | +761 | +779
Randolph Creek Tributary | At the Randolph Creek confluence | +746 | +751 | Village of Randolph.
| Approximately 1,700 feet upstream of the Randolph Creek confluence | None | +763
Rock Creek | At the upstream side of Armour Road | +745 | +759 | City of Avondale, City of North Kansas City.
| Approximately 150 feet upstream of Northeast Excelsior Street | +777 | +780
Rock Creek Gladstone | Approximately 150 feet upstream of North Jackson Drive | +849 | +851 | City of Gladstone.
| Approximately 250 feet upstream of Northeast 72nd Street | None | +934
Rock Creek Tributary 11 (backwater effects from Rock Creek Tributary 11.2) | From the Rock Creek Tributary 11.2 confluence to the downstream side of I-29 | +756 | +761 | City of North Kansas City.
Rock Creek Tributary 11.2 | At the upstream side of Armour Road | +752 | +758 | City of North Kansas City.
| Approximately 640 feet upstream of I-29 | None | +784
Rocky Branch | At the Wilkerson Creek confluence | +846 | +848 | City of Smithville, Unincorporated Areas of Clay County.
| Approximately 250 feet downstream of Northeast 132nd Street | None | +888
Rush Creek | At the Missouri River confluence | +730 | +727 | City of Liberty, Unincorporated Areas of Clay County.
| At the Rush Creek Tributary 15 confluence | None | +826
Second Creek | At the Little Platte River confluence | +814 | +813 | City of Smithville, Unincorporated Areas of Clay County.
| At the Platte County boundary | None | +822
Shoal Creek Tributary 20 | At the Shoal Creek confluence | +768 | +769 | City of Pleasant Valley.
| Approximately 300 feet downstream of North Corrington Avenue | +807 | +824
Shoal Creek Tributary 20.1 | At the Shoal Creek Tributary 20 confluence | +771 | +773 | City of Pleasant Valley.
| Approximately 1,400 feet upstream of Kaill Road | +807 | +805
Town Branch | At the Shoal Creek confluence | +733 | +734 | City of Liberty.
| Approximately 0.8 mile upstream of East Ruth Ewing Road | None | +775
Wilkerson Creek | Approximately 400 feet upstream of East County Road DD | +816 | +817 | City of Smithville, Unincorporated Areas of Clay County.
| Approximately 0.4 mile upstream of the Wilkerson Creek Tributary 5 confluence | None | +936
Williams Creek | At the Fishing River confluence | +760 | +758 | Unincorporated Areas of Clay County, Village of Prathersville.
| Approximately 0.5 mile upstream of County Road RA | +849 | +851
Williams Creek Tributary 14 | At the Williams Creek confluence | +814 | +817 | Unincorporated Areas of Clay County.
| Approximately 150 feet upstream of Northeast 161st Street | None | +834
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES:
City of Avondale
Maps are available for inspection at City Hall, 3007 State Highway 10, Kansas City, MO 64117.
City of Excelsior Springs
Maps are available for inspection at City Hall, 201 East Broadway Street, Excelsior Springs, MO 64024.
City of Gladstone
Maps are available for inspection at City Hall, 7010 North Holmes Street, Gladstone, MO 64118.
City of Glenaire
Maps are available for inspection at City Hall, 309 Smiley Road, Glenaire, MO 64068.
City of Holt
Maps are available for inspection at City Hall, 315 Main Street, Holt, MO 64048.
City of Kearney
Maps are available for inspection at City Hall, 100 East Washington Street, Kearney, MO 64060.
City of Lawson
Maps are available for inspection at City Hall, 103 North Pennsylvania Avenue, Lawson, MO 64062.
City of Liberty
Maps are available for inspection at City Hall, 101 East Kansas Street, Liberty, MO 64069.
City of Missouri City
Maps are available for inspection at the Clay County Courthouse, 1 Courthouse Square, Liberty, MO 64068.
City of Mosby
Maps are available for inspection at City Hall, 12312 4th Street, Mosby, MO 64024.
City of North Kansas City
Maps are available for inspection at City Hall, 2010 Howell Street, North Kansas City, MO 64116.
City of Pleasant Valley
Maps are available for inspection at City Hall, 6500 Royal Street, Pleasant Valley, MO 64068.
City of Smithville
Maps are available for inspection at City Hall, 107 West Main Street, Smithville, MO 64089.
Unincorporated Areas of Clay County
Maps are available for inspection at the Clay County Courthouse, 1 Courthouse Square, Liberty, MO 64068.
Village of Claycomo
Maps are available for inspection at the Village Municipal Office, 115 Northeast 69 Highway, Claycomo, MO 64119.
Village of Prathersville
Maps are available for inspection at City Hall, 25615 H Highway, Prathersville, MO 64024.
Village of Randolph
Maps are available for inspection at City Hall, 7777 North East Birmingham Road, Randolph, MO 64161.
Allen County, Ohio, and Incorporated Areas
Auglaize River | Approximately 0.7 mile downstream of Greely Chapel Road | None | +909 | Unincorporated Areas of Allen County.
| Approximately 750 feet upstream of Faulkner Road | None | +965
Dug Run | At the Ottawa River confluence | None | +780 | City of Lima, Unincorporated Areas of Allen County.
| Approximately 100 feet downstream of North Cable Road | +828 | +827
Dug Run Tributary | At the Dug Run confluence | +816 | +813 | Unincorporated Areas of Allen County.
| At the downstream side of Eastown Road | +824 | +823
Flat Fork Creek | Approximately 0.4 mile downstream of East 7th Street | None | +762 | Unincorporated Areas of Allen County.
| Approximately 0.6 mile upstream of State Highway 66 (Spencerville Avenue) | None | +776
Freed Ditch | At the Little Ottawa River confluence | +870 | +867 | Unincorporated Areas of Allen County, Village of Fort Shawnee.
| Approximately 1,600 feet upstream of the Little Ottawa River confluence | +871 | +870
Hog Creek | At the Ottawa River confluence | None | +900 | Unincorporated Areas of Allen County.
| At the downstream side of County Highway 15 (Hardin Road) | None | +924
Jennings Creek | Approximately 400 feet downstream of Pohlman Road | None | +760 | City of Delphos, Unincorporated Areas of Allen County.
| Approximately 200 feet upstream of Pohlman Road | None | +760
Little Ottawa River | At the Ottawa River confluence | None | +827 | Unincorporated Areas of Allen County, Village of Fort Shawnee.
| Approximately 0.8 mile upstream of Hume Road | None | +881
Little Riley Creek | At the upstream side of Columbus Grove Bluffton Road | None | +820 | Unincorporated Areas of Allen County.
| Approximately 150 feet upstream of Columbus Grove Bluffton Road | None | +820
Lost Creek | At the Ottawa River confluence | None | +863 | Unincorporated Areas of Allen County.
| At the downstream side of Cool Road | None | +928
Lost Creek Tributary | At the downstream side of State Highway 117/309 | None | +875 | Unincorporated Areas of Allen County.
| Approximately 50 feet upstream of State Highway 117/309 | None | +875
Ottawa River | Approximately 1.1 miles downstream of Lincoln Highway | None | +767 | City of Lima, Unincorporated Areas of Allen County, Village of Elida.
| At the Hog Creek confluence | None | +900
Pike Run | At the Ottawa River confluence | None | +769 | City of Lima, Unincorporated Areas of Allen County.
| Approximately 300 feet downstream of Knollwood Drive | None | +829
Sugar Creek | Approximately 1.2 miles downstream of Hookwaltz Road | None | +776 | City of Lima, Unincorporated Areas of Allen County.
| At the downstream side of Phillips Road | None | +881
Unnamed Tributary No. 3 to Little Ottawa River | Approximately 1,500 feet upstream of the Little Ottawa River confluence | None | +835 | Unincorporated Areas of Allen County, Village of Fort Shawnee.
| Approximately 0.5 mile upstream of the Little Ottawa River confluence | None | +839
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES:
City of Delphos
Maps are available for inspection at City Hall, 608 North Canal Street, Delphos, OH 45833.
City of Lima
Maps are available for inspection at City Hall, 50 Town Square, Lima, OH 45801.
Unincorporated Areas of Allen County
Maps are available for inspection at the Allen County Courthouse, 301 North Main Street, Lima, OH 45802.
Village of Elida
Maps are available for inspection at the Village Hall, 200 West Main Street, Elida, OH 45807.
Village of Fort Shawnee
Maps are available for inspection at the Village Hall, 2050 West Breese Road, Fort Shawnee, OH 45806.
Shelby County, Tennessee, and Incorporated Areas
Fletcher Creek | Approximately 100 feet upstream of Bartlett Road | +246 | +245 | City of Memphis, Unincorporated Areas of Shelby County.
| Approximately 150 feet upstream of Back Nine Drive | None | +366
Howard Creek | Approximately 1,310 feet downstream of Old Brownsville Road | +246 | +247 | City of Bartlett, Unincorporated Areas of Shelby County.
| Approximately 1,115 feet upstream of Billy Maher Road | None | +256
Ivy Creek | Approximately 650 feet upstream of CSX railroad | None | +261 | City of Lakeland.
| At the upstream side of Memphis Arlington Road | None | +295
Loosahatchie River Lateral A | Approximately 200 feet downstream of Gulf Stream Road | +269 | +267 | Township of Arlington.
| At the upstream side of Memphis Arlington Road | +280 | +281
Loosahatchie River Lateral CA | At the Loosahatchie River Lateral C confluence | +274 | +275 | Township of Arlington.
| Approximately 0.3 mile upstream of Forrest Street | None | +294
North Fork Creek Lateral A | Approximately 0.8 mile upstream of the North Fork Creek confluence | +274 | +275 | City of Millington, Unincorporated Areas of Shelby County.
| At the upstream side of Sullivan Road | +321 | +320
Wolf Creek Lateral F | Approximately 125 feet upstream of Wolf River Boulevard | +272 | +274 | City of Germantown.
| At the upstream side of Johnson Road | None | +337
Wolf River Lateral C | Approximately 645 feet upstream of the Wolf River Lateral CA confluence | +273 | +272 | City of Germantown.
| Approximately 130 feet upstream of Woodruff Drive | +312 | +311
Wolf River Lateral G | Approximately 0.4 mile upstream of the Wolf River confluence | +273 | +272 | City of Germantown, Town of Collierville.
| Approximately 0.5 mile upstream of Fox Hill East Circle | None | +323
Wolf River Lateral H | Approximately 0.3 mile downstream of Wolf River Boulevard | +279 | +280 | Town of Collierville, Unincorporated Areas of Shelby County.
| Approximately 140 feet downstream of State Highway 72 | +329 | +325
Wolf River Lateral J | Approximately 0.4 mile downstream of Shelton Road East | +289 | +288 | Town of Collierville, Unincorporated Areas of Shelby County.
| Approximately 130 feet upstream of West White Road | +327 | +323
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES:
City of Bartlett
Maps are available for inspection at 3585 Altrurial Road, Bartlett, TN 38134.
City of Germantown
Maps are available for inspection at 1920 South Germantown Road, Germantown, TN 38138.
City of Lakeland
Maps are available for inspection at 10001 Highway 70, Lakeland, TN 38002.
City of Memphis
Maps are available for inspection at 125 North Main Street, Room 476, Memphis, TN 38103.
City of Millington
Maps are available for inspection at 7930 Nelson Street, Millington, TN 38053.
Town of Collierville
Maps are available for inspection at 500 Keough Road, Collierville, TN 38017.
Township of Arlington
Maps are available for inspection at 5854 Airline Road, Arlington, TN 38002.
Unincorporated Areas of Shelby County
Maps are available for inspection at 160 North Main Street, Suite 350, Memphis, TN 38103.

(Catalog of Federal Domestic Assistance No. 97.022, “Flood Insurance.”)

Dated: April 28, 2011.
Sandra K. Knight,
Deputy Federal Insurance and Mitigation Administrator, Mitigation, Department of Homeland Security, Federal Emergency Management Agency.

[FR Doc. 2011-11411 Filed 5-9-11; 8:45 am]

BILLING CODE 9110-12-P